DEPARTMENT OF DEFENSE

Office of the Secretary

Meeting Invitation to Industry and Comment Period on Draft Edition 3 of Standardization Agreement (STANAG) 4671 Unmanned Aerial Vehicle Systems Airworthiness Requirements (USAR); Revision

AGENCY: United States Office of the Secretary of Defense through the United States Department of Defense for North Atlantic Treaty Organization (NATO) STANAG 4671 Custodial Support Team.

ACTION: Notice of meeting location change and document availability; revision.

SUMMARY: On Friday, January 10, 2014 (79 FR 1839-1840), the Department of Defense published a notice titled “Meeting Invitation to Industry and Comment Period on Draft Edition 3 of Standardization Agreement (STANAG) 4671.” Subsequent to the publication of that notice, the subject of the notice, the meeting location, the deadline for submitting comments, and parts of the text were revised.

This notice revises the previously-published meeting notice to include these revisions.

DATES: Comments must be submitted no later than March 5, 2014 to Mrs. Sandra A. Greeley at the email address in the FOR FURTHER INFORMATION CONTACT section. The meeting date is set for March 25-26, 2014 in Mannheim, Germany.

ADDRESSES: A copy of STANAG 4671 and the comment sheet may be obtained by emailing Mrs. Sandra A. Greeley at the email address in the FOR FURTHER INFORMATION CONTACT section. The meetings will be held in Mannheim, Germany at the Federal Academy of Education and Training in the Bundeswehr, the meeting facility location is not yet finalized.

FOR FURTHER INFORMATION CONTACT: Industry Day Meeting Coordinator: Mrs. Sandra A. Greeley, Email: sandra.a.greeley.ctr@navy.mil, Telephone: (301) 342-8635.

STANAG 4671 Technical Information and Questions: Mr. Daniel Beck, Email: daniel.h.beck2.civ@mail.mil, Telephone: (256) 313-5306.

SUPPLEMENTARY INFORMATION: The NATO STANAG 4671 Custodial Support Team is inviting industries from NATO countries to review Edition 3 and provide comments and/or concerns prior to finalization and publication for topics of discussion during Industry Day. NATO STANAG 4671 USAR contains the airworthiness requirements to certify Fixed Wing Unmanned Aircraft Systems between 150kg and 20000kg. Interested Industry Day participants may request copy of the draft update to STANAG 4671 (with comment sheet for feedback) by email and copies will be provided within 3 business days of receipt by email only. Upon request from an industry participant to attend Industry Day a formal invitation will be sent via email prior to March 5, 2014 with details for date, location and access requirements. The objective of the March meetings will be to conduct a technical dialogue on the STANAG 4671. Industry Day discussion topics will be generated based on Industry's feedback as well as specific topics identified by the Custodial Support Team. Comments will be prioritized and addressed in an open forum.

Key Words: RPV, UAS, UAV, Remotely Piloted Vehicle, Unmanned Aircraft, Unmanned Aircraft Vehicle, Unmanned Aircraft Systems.

Dated: February 14, 2014.
Aaron Siegel,
Alternate OSD Federal Register Liaison Officer, Department of Defense.

[FR Doc. 2014-03663 Filed 2-20-14; 8:45 am]

BILLING CODE 5001-06-P